DEPARTMENT OF THE INTERIOR

National Park Service

[NPS-WASO-NAGPRA-23208; PPWOCRADN0-PCU00RP14.R50000]

Notice of Intent To Repatriate Cultural Items: U.S. Department of the Interior, National Park Service, Ocmulgee National Monument, Macon, GA

AGENCY: National Park Service, Interior.

ACTION: Notice.

SUMMARY: The U.S. Department of the Interior, National Park Service, Ocmulgee National Monument, in consultation with the appropriate Indian tribes or Native Hawaiian organizations, has determined that the cultural items listed in this notice meet the definition of unassociated funerary objects. Lineal descendants or representatives of any Indian tribe or Native Hawaiian organization not identified in this notice that wish to claim these cultural items should submit a written request to Ocmulgee National Monument. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Ocmulgee National Monument at the address in this notice by July 3, 2017.

ADDRESSES: Jim David, Superintendent, Ocmulgee National Monument, 1207 Emery Highway, Macon, GA 31217, telephone (478) 752-8257, email jim_david@nps.gov.

SUPPLEMENTARY INFORMATION: Notice is here given in accordance with the Native American Graves Protection and Repatriation Act (NAGPRA), 25 U.S.C. 3005, of the intent to repatriate cultural items under the control of the U.S. Department of the Interior, National Park Service, Ocmulgee National Monument, Macon, GA, that meet the definition of unassociated funerary objects under 25 U.S.C. 3001.

This notice is published as part of the National Park Service's administrative responsibilities under NAGPRA, 25 U.S.C. 3003(d)(3). The determinations in this notice are the sole responsibility of the Superintendent, Ocmulgee National Monument.

History and Description of the Cultural Items

Between 1933 and 1934, 99 cultural items were removed from Funeral Mound C in Bibb County, GA, during legally authorized projects sponsored by the Works Progress Administration. The human remains were repatriated to culturally affiliated tribes in 2015 by the Smithsonian Institution, National Museum of Natural History. The 99 unassociated funerary objects are 3 spoons, 61 beads, 1 bottle, 1 bowl, 4 vessel fragments, 1 metal fragment, 1 animal bone, 1 nail, 4 pendants, 2 projectile points, 1 scraper, 17 worked shells, 1 folding knife, and 1unmodified basalt stone.

While Mound C is a burial mound dating to the Macon Plateau phase of the Early Mississippian period (A.D. 900 to A.D. 1100), several historic burials were placed in the upper levels of the mound and in the adjacent village area. Burials excavated at this site were identified as historic Creek on the basis of European trade goods found in association with the remains. The historic Creek town associated with the trading post near Mound C has long been thought to be Ocmulgee. Residents of Ocmulgee moved to the Chattahoochee River after 1717.

Historical documentation reflects a great deal of movement and reorganization among the Creeks and the Creek Confederacy during the 18th and 19th centuries. Ten present-day Indian tribes include Creek descendants—the Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town.

Determinations Made by Ocmulgee National Monument

Officials of Ocmulgee National Monument have determined that:

• Pursuant to 25 U.S.C. 3001(3)(B), the 99 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town.

Additional Requestors and Disposition

Lineal descendants or representatives of any Indian tribe or Native Hawaiian organization not identified in this notice that wish to claim these cultural items should submit a written request with information in support of the claim to Jim David, Superintendent, Ocmulgee National Monument, 1207 Emery Highway, Macon, GA 31217, telephone (478) 752-8257, email jim_david@nps.gov, by July 3, 2017. After that date, if no additional claimants have come forward, transfer of control of the unassociated funerary objects to Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town may proceed.

Ocmulgee National Monument is responsible for notifying the Absentee-Shawnee Tribe of Indians of Oklahoma, Alabama-Coushatta Tribe of Texas (previously listed as the Alabama-Coushatta Tribes of Texas), Alabama-Quassarte Tribal Town, Catawba Indian Nation (aka Catawba Tribe of South Carolina), Cherokee Nation, Coushatta Tribe of Louisiana, Eastern Band of Cherokee Indians, Eastern Shawnee Tribe of Oklahoma, Jena Band of Choctaw Indians, Kialegee Tribal Town, Miccosukee Tribe of Indians, Mississippi Band of Choctaw Indians, Poarch Band of Creeks (previously listed as the Poarch Band of Creek Indians of Alabama), Seminole Tribe of Florida (previously listed as the Seminole Tribe of Florida (Dania, Big Cypress, Brighton, Hollywood & Tampa Reservations)), Shawnee Tribe, The Chickasaw Nation, The Choctaw Nation of Oklahoma, The Muscogee (Creek) Nation, The Seminole Nation of Oklahoma, Thlopthlocco Tribal Town, and United Keetowah Band of Cherokee Indians in Oklahoma that this notice has been published.

Dated: April 3, 2017.
Melanie O'Brien,
Manager, National NAGPRA Program.

[FR Doc. 2017-11453 Filed 6-1-17; 8:45 am]

BILLING CODE 4312-52-P